DEPARTMENT OF HEALTH AND HUMAN SERVICES

Centers for Disease Control and Prevention

Request for Nominations of Candidates To Serve on the World Trade Center Health Program Scientific/Technical Advisory Committee (the STAC or the Committee), Centers for Disease Control and Prevention, Department of Health and Human Services

Correction: This notice was originally published in the Federal Register on January 30, 2014 Volume 79, Number 20, page 4911. This notice is to announce the extension of submission for potential nominees.

Nominations must be submitted (postmarked or electronically received) by March 31, 2014. Please submit written nominations (one original and two copies) to the following address only: NIOSH Docket 229-B, c/o Zaida Burgos, Committee Management Specialist, National Institute for Occupational Safety and Health, Centers for Disease Control and Prevention, 1600 Clifton Rd. NE., MS: E-20, Atlanta, Georgia 30333 or electronic nominations to: nioshdocket@cdc.gov. Attachments in Microsoft Word are preferred. Telephone and facsimile submissions cannot be accepted.

For further information, please contact: Paul Middendorf, Senior Health Scientist, 1600 Clifton Rd. NE., MS: E-20, Atlanta, GA 30333; Telephone (404) 498-2500 (this is not a toll-free number); email pmiddendorf@cdc.gov.

The Director, Management Analysis and Services Office, has been delegated the authority to sign Federal Register notices pertaining to announcements of meetings and other committee management activities for both the Centers for Disease Control and Prevention and the Agency for Toxic Substances and Disease Registry.

Gary Johnson,
Acting Director, Management Analysis and Services Office, Centers for Disease Control and Prevention (CDC).

[FR Doc. 2014-05377 Filed 3-11-14; 8:45 am]

BILLING CODE 4163-18-P